LEGAL SERVICES CORPORATION

Sunshine Act Meeting of the Board of Directors Finance Committee

Time and Date: The Finance Committee of the Legal Services Corporation Board of Directors will meet on September 8, 2001. The meeting will begin at 9 a.m. and continue until the Committee concludes its agenda.

Location: Hilton Alexandria Mark Center, 5000 Seminary Road, Alexandria, Virginia.

Status of Meeting: Open.

Matters to be considered:

1. Approval of agenda.

2. Approval of the minutes of the Committee's meeting of June 30, 2001.

3. Report of LSC's Consolidated Operating Budget, Expenses and Other Funds Available through July 31, 2001.

4. Report on the projected operating expenses for fiscal year 2001 based on operating experiences through June 30, 2001.

5. Report on internal budgetary adjustments.

6. Consider and act on the President's recommendations for Consolidated Operating Budget reallocations.

7. Consider and act on proposed Temporary Operating Budget for Fiscal Year 2002.

8. Consider and act on budget mark for fiscal year 2003.

9. Consider and act on other business.

10. Public comment.

Contact Person for Information: Victor M. Fortuno, Vice President for Legal Affairs, General Counsel, & Corporate Secretary, at (202) 336-8800.

Special needs: Upon request, meeting notices will be made available in alternate formats to accommodate visual and hearing impairments. Individuals who have a disability and need an accommodation to attend the meeting may notify Elizabeth S. Cushing, at (202) 336-8800.

Dated: August 30, 2001.
Victor M. Fortuno,
Vice President for Legal Affairs, General Counsel, and Corporate Secretary.

[FR Doc. 01-22436 Filed 8-31-01; 8:45 am]

BILLING CODE 7050-01-M